FEDERAL COMMUNICATIONS COMMISSION

47 CFR Part 54

[CC 96-45; FCC 02-196]

Federal-State Joint Board on Universal Service: Children's Internet Protection Act

AGENCY: Federal Communications Commission.

ACTION: Suspension of final rules; interim procedures; notice of modification of collection of information.

SUMMARY: In this document, the Commission adopts interim measures for the schools and libraries universal service support mechanism in response to the decision issued by the United States District Court for the Eastern District of Pennsylvania. The court held that section 1721(b) of the Children's Internet Protection Act (CIPA), codified at 47 U.S.C. 254(h)(6), was facially unconstitutional and enjoined the Commission from withholding federal funds from any public library for failure to comply with the Internet-filtering requirements of the provision. In keeping with the court's injunction, we suspend enforcement of those portions of § 54.520 of our rules implementing the provision pending final judicial action by the Supreme Court. We also adopt certain specific measures to ensure that libraries that have applied for discounted services under the schools and libraries support mechanism are not denied such discounts because of lack of compliance with the unconstitutional CIPA requirements. Finally, we direct the Universal Service Administrative Company to implement the necessary changes to program procedures and forms. We take these steps to respond promptly to the court's mandate and to ensure that the schools and libraries universal service support mechanism continues to operate in accordance with federal law.

EFFECTIVE DATE: August 5, 2002.

FOR FURTHER INFORMATION CONTACT: Peter Trachtenberg, Attorney-Advisor, (202) 418-7369.

SUPPLEMENTARY INFORMATION: This document, adopted and released on June 28, 2002, will be available for public inspection during regular business hours at the FCC Reference Information Center, Room CY-A257, at the Federal Communications Commission, 445 12th St., SW., Washington, DC 20554. The complete text is available through the Commission's duplicating contractor: Qualex International, Portals II, 445 12th Street, S.W., Room CY-B402, Washington, DC 20554, telephone 202-863-2898, facsimile 202-863-2898, or via e-mail at qualexint@aol.com.

Synopsis of Order

1. Pending Supreme Court action, we suspend enforcement against libraries of those sections of 47 CFR 54.520 that were adopted to implement 47 U.S.C. 254(h)(6). Specifically, we suspend enforcement of 47 CFR 54.520(c)(2)(i) and (iii), 54.520(c)(3), and 54.520(d) as they apply to all libraries, to the extent that these provisions require any library to filter or certify to such filtering under 47 U.S.C. 254(h)(6). We further suspend enforcement of 47 CFR 54.520(g)(1) as it applies to all libraries.

2. In addition, we direct the Schools and Libraries Division (SLD) of the Administrator to take the following specific actions to effectuate the principle that library applicants not be penalized for non-compliance with section 254(h)(6). First, SLD shall accept without penalty all FCC Forms 486 from Funding Year 4 library applicants that have not previously filed their FCC Forms 486 for a period lasting 120 days from the release date of this Order or the release date of a funding commitment decision letter, whichever is later. If a library applicant files an FCC Form 486 after that period, the normal 120 day rule shall be applied to the applicant's service requests, limiting funding to services received on or after the date 120 days prior to the postmark of the FCC Form 486.

3. Second, for those Funding Year 2001 library applicants that filed an FCC Form 486 after the October 28, 2001 deadline, SLD shall not apply any penalty for having missed the October 28, 2001 deadline, but such FCC Forms 486 shall still be subject to the normal 120 day rule.

4. Third, for those Funding Year 2001 library applicants that filed an FCC Form 486 by October 28, 2001 without completing the CIPA certifications, SLD shall accept these forms and process them without penalty for the lack of certification.

5. Fourth, SLD shall determine if there are consortia applicants that include library members and that either filed their FCC Forms 486 late or reduced the shared discount rate requested by eliminating the library members through an FCC Form 500. In the former case, SLD shall deal with these consortia in a manner consistent with the measures specified above. In the latter case, the consortia shall be given an opportunity, within 120 days of the release date of this Order, to request funded discounts at the original rate requested.

6. The measures specified above shall be taken only for library applicants. Because the court's decision does not address the constitutionality of the CIPA requirements as they apply to schools, all of the CIPA requirements as codified at sections 254(h)(5) and 254(l) and implemented by the Commission's rules remain in effect for schools. This includes schools that are members of consortia, including consortia comprised of both schools and libraries.

7. In addition, because the court's decision holds invalid only the filtering requirements set forth in section 254(h)(6) and does not address the validity of section 254(l), section 254(l) remains in effect with respect to libraries. Because the current FCC Form 486 and FCC Form 479 do not permit library applicants to certify to compliance only with section 254(l) without also certifying to compliance with section 254(h)(6), a change in these forms will be necessary so that libraries may certify to compliance with section 254(l) only. We therefore direct the Administrator, in consultation with the Bureau, to make any changes necessary to the procedures and to FCC Form 486 and FCC Form 479 consistent with this Order and the court's decision.

8. Accordingly, IT IS ORDERED that, pursuant to the authority of sections 1-5 and 254 of the Communications Act of 1934, as amended, 47 U.S.C. 151-155, and 254, and the Children's Internet Protection Act, Public Law 106-554 §§ 1701 et seq. as codified at 47 U.S.C. 254(h) and (l), this Order is ADOPTED. The modifications to a collection of information contained within this Report and Order is contingent upon approval by the Office of Management and Budget.

9. IT IS FURTHER ORDERED that enforcement of §§ 54.520(c)(2)(i) and (iii), 54.520(c)(3), 54.520(d), and 54.520(g)(1) of the Commission's rules, 47 CFR 54.520, as they apply to all libraries and to the extent that they require any library to filter or certify to such filtering under 47 U.S.C. 254(h)(6), is SUSPENDED consistent with the terms of this Order.

10. IT IS FURTHER ORDERED that AUTHORITY IS DELEGATED to the CHIEF OF THE WIRELINE COMPETITION BUREAU pursuant to section 5(c) of the Communications Act of 1934, 47 U.S.C. 155(c), to modify any forms that are necessary to implement the decisions adopted in this Order.

11. IT IS FURTHER ORDERED that THIS ORDER IS EFFECTIVE August 5, 2002. Good cause exists to make this effective immediately upon publication in the Federal Register. The actions we take in this Order are intended to bring implementation of the CIPA into compliance with the judgment of the federal court. It is necessary that this Order take effect as soon as possible in order to best fulfill this purpose.

Federal Communications Commission.
Marlene H. Dortch,
Secretary.

Rule Changes

For the reasons discussed in the preamble, the Federal Communications Commission amends 47 CFR part 54 as follows:

PART 54-UNIVERSAL SERVICE

1. The authority citation for part 54 continues to read as follows:

Authority: 47 U.S.C. 1, 4(i), 201, 205, 214, and 254 unless otherwise noted.

2. The following note is added to § 54.520:

§ 54.520 Children's Internet Protection Act certifications required from recipients of discounts under the federal universal service support mechanism for schools and libraries.

* * * * *

Note to § 54.520: Enforcement of paragraphs (c)(2)(i) and (iii), (c)(3), (d), and (g)(1), as they apply to all libraries and to the extent that they require any library to filter or to certify to such filtering under 47 U.S.C. 254(h)(6), is suspended as of August 5, 2002.

[FR Doc. 02-19645 Filed 8-2-02; 8:45 am]

BILLING CODE 6712-01-P